SECURITIES AND EXCHANGE COMMISSION

[Release No. 34-54351; File No. SR-Amex-2006-44]

Self-Regulatory Organizations; American Stock Exchange LLC; Notice of Filing of a Proposed Rule Change and Amendments No. 1 and 2 Thereto Relating to the Listing and Trading of the DB Currency Index Value Fund

Correction

In notice document E6-14304 beginning on page 51245 in the issue of Tuesday, August 29, 2006, make the following correction:

On page 51255, in the second column, in the last two lines of the first full paragraph, “September 19, 2006” should read “September 13, 2006”.

[FR Doc. Z6-14304 Filed 9-8-06; 8:45 am]

BILLING CODE 1505-01-D